DEPARTMENT OF ENERGY

National Nuclear Security Administration

Notice of Availability of the Draft Supplemental Programmatic Environmental Impact Statement on Stockpile Stewardship and Management for a Modern Pit Facility

AGENCY: National Nuclear Security Administration, Department of Energy.

ACTION: Notice of availability.

SUMMARY: The Department of Energy's (DOE) National Nuclear Security Administration (NNSA) is responsible for the safety and reliability of the U.S. nuclear weapons stockpile, including production readiness to maintain that stockpile. Since 1989, the DOE has been without the capability to produce certified plutonium pits, which are an essential component of nuclear weapons. The NNSA, the Department of Defense, and Congress have highlighted the lack of long-term pit production capability as a national security issue requiring timely resolution. While a small interim capability is currently being established at the Los Alamos National Laboratory (LANL), classified analyses indicate that long-term support of the nuclear stockpile, which is a cornerstone of U.S. national security policy, will require a long-term pit production capability. Accordingly, the NNSA has prepared a Draft Supplement to the Programmatic Environmental Impact Statement (EIS) on Stockpile Stewardship and Management (SSM) for a Modern Pit Facility (MPF) [hereafter, that document will be referred to as the MPF Draft EIS], which is now available, in order to decide: (1) Whether to proceed with the MPF; and (2) if so, where to locate the MPF. This Notice of Availability also sets forth the dates, times, and locations for public meetings on the MPF Draft EIS.

DATES: NNSA is inviting comments related to the MPF Draft EIS. Comments should be submitted by August 5, 2003, and will assist the NNSA in finalizing the MPF Draft EIS. Comments submitted after August 5, 2003 will be considered to the extent practicable. Public meetings to discuss issues and receive comments on the MPF Draft EIS will be held in the vicinity of sites associated with the proposed action, as well as in Washington, DC. The public meetings will provide the public with an opportunity to present comments, ask questions, and discuss issues with NNSA officials regarding the MPF Draft EIS. The locations, dates, and times for these public meetings are as follows:

Pantex Site—June 26, 2003,

7 p.m.-10 p.m., College Union Building, Oak Room, Amarillo College, Washington Street Campus, 24th and Jackson Streets, Amarillo, TX 79178, (806) 371-5100.

Carlsbad Site, NM—June 30, 2003, 6 p.m.-10 p.m., U.S. Department of Energy, Carlsbad Area Office, 4021 National Parks Highway, Carlsbad, NM 88220, (505) 234-7227.

Los Alamos Site—July 1, 2003 7 p.m.-10 p.m., Cities of Gold Hotel, Highway 84/285, Pojoaque, NM 87544, (505) 455-0515.

Nevada Site—July 2, 2003, 7 p.m.-10 p.m., University of Nevada Las Vegas, 4505 Maryland Parkway, Student Union Building, Room 201, Las Vegas, NV 89154, (702) 895-4449.

Savannah River Site—July 7, 2003, 6 p.m.-10 p.m, North Augusta Community Center, 495 Brookside Avenue, North Augusta, SC 29841, (803) 441-4290.

Washington, DC—July 16, 2003, 10 a.m.-1 p.m., U.S. Department of Energy, 1000 Independence Avenue, SW., Room 1E-245, Washington, DC 20585, (202) 586-5484.

The NNSA will publish additional notices on the dates, times, and locations of the public meetings in local newspapers in advance of the scheduled meetings. Any necessary changes will be announced in the local media.

ADDRESSES: General questions concerning the MPF Draft EIS, including requests for the document, can be asked by calling 1-800-832-0885, ext. 65484, or by writing to: Mr. Jay Rose, MPF EIS Document Manager, Forrestal Building, U.S. Department of Energy/NNSA, 1000 Independence Avenue, SW., Washington, DC 20585. Comments can be submitted at the address above; faxed to: 1-202-586-5324; e-mailed to James.Rose@nnsa.doe.gov.; or submitted via the World Wide web at http://www.mpfeis.com/. Please mark correspondence as “MPF Draft EIS Comments.”

FOR FURTHER INFORMATION CONTACT: For general information on the NNSA NEPA process, please contact: Mr. James J. Mangeno, NNSA NEPA Compliance Officer, NA-3.6, Forrestal Building, U.S. Department of Energy/NNSA, 1000 Independence Avenue, SW., Washington, DC 20585; or telephone 1-800-832-0885, ext. 68395. For general information on the DOE NEPA process, please contact: Ms. Carol M. Borgstrom, Director, Office of NEPA Policy and Compliance, EH-42, Forrestal Building, U.S. Department of Energy, 1000 Independence Avenue, SW., Washington, DC 20585, telephone (202) 586-4600, or leave a message at 1-800-472-2756.

SUPPLEMENTARY INFORMATION: The MPF Draft EIS evaluates the environmental impacts associated with constructing and operating a MPF at the following sites: (1) Los Alamos Site, New Mexico; (2) Nevada Test Site; (3) Carlsbad Site, New Mexico; (4) Savannah River Site, South Carolina; and (5) Pantex Site, Texas. The MPF Draft EIS also evaluates an upgrade to the plutonium pit manufacturing capabilities currently being established at the TA-55 facility at LANL, and the No Action Alternative of relying on the small interim capability being established at LANL. The MPF Draft EIS evaluates a range of pit production capabilities consistent with national security requirements. Additional NEPA analysis will be required for the specific siting of such a facility should the decision be made that a MPF is required. As identified in the MPF Draft EIS, constructing and operating a MPF is the preferred alternative. A preferred site for a MPF has not yet been determined, but will be identified in the MPF Final EIS.

Issued in Washington, DC this 28th day of May 2003.
Everet H. Beckner,
Deputy Administrator for Defense Programs, National Nuclear Security Administration.

[FR Doc. 03-14028 Filed 6-3-03; 8:45 am]

BILLING CODE 6450-01-P